OFFICE OF MANAGEMENT AND BUDGET

Information Collection Activities: Proposed Collection; Comment Request

AGENCY: Office of Management and Budget, Office of Federal Financial Management.

ACTION: Notice; request for comments.

SUMMARY: In accordance with the Paperwork Reduction Act (44 U.S.C. 3501 et seq.), the Office of Management and Budget (OMB) invites the general public and Federal agencies to comment on the renewal of the SF-LLL, Disclosure of Lobbying Activities. Although OMB proposes no changes to the SF-LLL as part of this notice, we are seeking public comments on whether changes are warranted. We are particularly interested in comments on whether the information collected in the forms could be more consistent with other similar governmentwide information collections or whether additional information should be collected to further the aims of government transparency.

DATES: Comments must be received by November 26, 2010. Due to potential delays in OMB's receipt and processing of mail sent through the U.S. Postal Service, we encourage respondents to submit comments electronically to ensure timely receipt. We cannot guarantee that comments mailed will be received before the comment closing date.

ADDRESSES: Comments may be sent to regulations.gov, a Federal E-Government Web site that allows the public to find, review, and submit comments on documents that agencies have published in the Federal Register and that are open for comment. Simply type “SF-LLL renewal-10” (in quotes) in the Comment or Submission search box, click Go, and follow the instructions for submitting comments. Comments received by the date specified above will be included as part of the official record.

Marguerite Pridgen, Office of Federal Financial Management, Office of Management and Budget, 725 17th Street, NW., Washington, DC 20503; telephone 202-395-7844; fax 202-395-3952; e-mail mpridgen@omb.eop.gov.

FOR FURTHER INFORMATION CONTACT: Marguerite Pridgen at the addresses noted above.

OMB Control No.: 0348-0046.

Title: Disclosure of Lobbying Activities.

Form No.: SF-LLL.

Type of Review: Extension of a currently approved collection.

Respondents: Contractors, States, Local Governments, Universities, Non-Profit Organizations, For-Profit Organizations, Individuals.

Number of Responses: 1,000.

Estimated Time per Response: 10 minutes.

Needs and Uses: The SF-LLL is the standard disclosure form for lobbying paid for with non-Federal funds, as required by the Byrd Amendment and amended by the Lobbying Disclosure Act of 1995. The Federal awarding agencies use information reported on this form for the award and general management of Federal contracts and assistance program awards.

Debra J. Bond,
Deputy Controller.

SUPPLEMENTARY INFORMATION:

I. Summary of Comments and Responses

On June 22, 2010, OMB published in the Federal Register a notice seeking comments on the Standard form LLL, Disclosure of Lobbying Activities (SF-LLL) in accordance with the Paperwork Reduction Act [75 FR 35507]. OMB Watch, Project on Government Oversight, Sunlight Foundation, and Thomas M. Susman submitted their combined comments in a single letter (“proposal”) dated August 19, 2010. Their comments were the only comments received in response to the June 22 notice and included recommendations for major changes to the system of disclosing lobbying activities. In summary, the August 19 proposal recommends expanding the information collected by the SF-LLL; raising the thresholds for reporting from $100,000 and $150,000 to $250,000; adding a form and process for government employees to report contacts with lobbyists; posting SF-LLL content from electronic submissions on a centralized, public, searchable Web site within three days of receiving it; and creating a system to ensure enforcement of the new reporting requirements.

II. Next Steps

The August 19 proposal, which can be viewed at regulations.gov, includes several recommendations that would require changes in policy and the process of lobbying disclosure that cannot be implemented before the SF-LLL expires. Therefore, the SF-LLL will be renewed without change to prevent any disruption in collecting lobbying disclosure information by Executive Branch agencies. Concurrent with the renewal without change, the August 19 proposal will be carefully reviewed and assessed for further action separate from this renewal process.

[FR Doc. 2010-27153 Filed 10-26-10; 8:45 am]

BILLING CODE P